DEPARTMENT OF ENERGY

Federal Energy Regulatory Commission

Combined Notice of Filings #1

Take notice that the Commission received the following electric rate filings:

Docket Numbers: ER14-2046-004.

Applicants: Plum Point Energy Associates, LLC.

Description: Compliance filing: Informational Filing Pursuant to Schedule 2 of the MISO OATT to be effective N/A.

Filed Date: 11/6/17.

Accession Number: 20171106-5196.

Comments Due: 5 p.m. ET 11/27/17.

Docket Numbers: ER16-2217-005.

Applicants: Logan Generating Company, L.P.

Description: Compliance filing: Information Filing Pursuant to Schedule 2 of the PJM OATT to be effective N/A.

Filed Date: 11/6/17.

Accession Number: 20171106-5204.

Comments Due: 5 p.m. ET 11/27/17.

Docket Numbers: ER17-2515-001.

Applicants: Chambers Cogeneration, Limited Partnership.

Description: Compliance filing: Informational Filing Pursuant to Schedule 2 of the PJM OATT to be effective N/A.

Filed Date: 11/6/17.

Accession Number: 20171106-5200.

Comments Due: 5 p.m. ET 11/27/17.

Docket Numbers: ER18-252-000.

Applicants: PJM Interconnection, L.L.C.

Description: § 205(d) Rate Filing: Rev to OA, Sched 1, sec 6.4.1 and OATT, Att K-Appx, sec 6.4.1 RE: Offer Capping to be effective 1/3/2018.

Filed Date: 11/3/17.

Accession Number: 20171103-5217.

Comments Due: 5 p.m. ET 11/24/17.

Docket Numbers: ER18-253-000.

Applicants: Duke Energy Progress, LLC.

Description: § 205(d) Rate Filing: DEP-French Broad EMC RS Nos. 195 & 210 to be effective 1/1/2016.

Filed Date: 11/3/17.

Accession Number: 20171103-5231.

Comments Due: 5 p.m. ET 11/24/17.

Docket Numbers: ER18-254-000.

Applicants: PJM Interconnection, L.L.C., Buckeye Power, Inc.

Description: § 205(d) Rate Filing: Revised SA No. 4753—NITSA among PJM and Buckeye Power, Inc. to be effective 1/1/2018.

Filed Date: 11/6/17.

Accession Number: 20171106-5302.

Comments Due: 5 p.m. ET 11/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2017.
Kimberly D. Bose,
Secretary.

[FR Doc. 2017-24455 Filed 11-9-17; 8:45 am]

BILLING CODE 6717-01-P